DEPARTMENT OF THE TREASURY

Office of Foreign Assets Control

31 CFR Part 591

Publication of Venezuela Sanctions Regulations Web General License 5S

AGENCY: Office of Foreign Assets Control, Treasury.

ACTION: Publication of a web general license.

SUMMARY: The Department of the Treasury's Office of Foreign Assets Control (OFAC) is publishing a general license (GL) issued pursuant to the Venezuela Sanctions Regulations: GL 5S, which was previously made available on OFAC's website.

DATES: GL 5S was issued on June 20, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On June 20, 2025, OFAC issued GL 5S to authorize certain transactions otherwise prohibited by the Venezuela Sanctions Regulations (VSR), 31 CFR part 591. GL 5S replaced and superseded GL 5R, which was issued on March 6, 2025. This GL was made available on OFAC's website (https://ofac.treasury.gov) when it was issued. The text of this GL is provided below.

OFFICE OF FOREIGN ASSETS CONTROL

Venezuela Sanctions Regulations

31 CFR Part 591

GENERAL LICENSE NO. 5S

Authorizing Certain Transactions Related to the Petróleos de Venezuela, S.A. 2020 8.5 Percent Bond on or After December 20, 2025

(a) Except as provided in paragraph (b) of this general license, on or after December 20, 2025, all transactions related to, the provision of financing for, and other dealings in the Petróleos de Venezuela, S.A. 2020 8.5 Percent Bond that would be prohibited by subsection l(a)(iii) of Executive Order (E.O.) 13835 of May 21, 2018, as amended by E.O. 13857 of January 25, 2019, and incorporated into the Venezuela Sanctions Regulations, 31 CFR part 591 (the VSR), are authorized.

(b) This general license does not authorize any transactions or activities otherwise prohibited by the VSR, or any other part of 31 CFR chapter V.

(c) Effective June 20, 2025, General License No. 5R, dated March 6, 2025, is replaced and superseded in its entirety by this General License No. 5S.

Lisa M. Palluconi,

Acting Director, Office of Foreign Assets Control.

Dated: June 20, 2025.
Bradley T. Smith,
Director, Office of Foreign Assets Control.

[FR Doc. 2025-17392 Filed 9-9-25; 8:45 am]

BILLING CODE 4810-AL-P